DEPARTMENT OF STATE

22 CFR Part 62

[Public Notice: 6858]

Exchange Visitor Program—Secondary School Students

AGENCY: Department of State.

ACTION: Proposed rule; withdrawal.

SUMMARY: On December 23, 2009 the State Department published in the Federal Register a proposed rule titled Exchange Visitor Program—Secondary School Students. The Department revised existing regulations to provide greater specificity and clarity to sponsors of the Secondary School Student category with respect to the execution of sponsor oversight responsibilities under the exchange visitor program. This rule is being withdrawn because it was submitted prior to OMB completing review. The proposed rule is withdrawn in its entirety.

DATES: The proposed rule published at 74 FR, Number 245, December 23, 2009 is withdrawn effective December 28, 2009.

FOR FURTHER INFORMATION CONTACT: Michael Cheman, U.S. Department of State, Washington, DC 20547, (202) 312-9605.

SUPPLEMENTARY INFORMATION:

Background

On December 23, 2009 the State Department published a final rule at 74 FR, Number 245. The rule was intended to revise existing regulations to provide greater specificity and clarity to sponsors of the Secondary School Student category with respect to the execution of sponsor oversight responsibilities under the exchange visitor program.

Reason for Withdrawal

This rule is being withdrawn because it was submitted prior to OMB completing review. The proposed rule is withdrawn in its entirety. Accordingly, the Department withdraws the rule “Exchange Visitor Program—Secondary School Students”, RIN 1400-AC56. This Proposed Rule was submitted on Friday, 18 December and was published Wednesday, 23 December, 2009 in Volume 74, Number 245 on pages 68200-68208.

Withdrawal of the rule does not preclude the Department from issuing another rule on the subject matter in the future or committing the agency to any future course of action.

Issued in Washington, DC, on December 23, 2009.
Dated: December 20, 2009.
Thelma Furlong,
Director, Office of Directives Management, Department of State.

[FR Doc. E9-30837 Filed 12-28-09; 8:45 am]

BILLING CODE 4710-24-P